SMALL BUSINESS ADMINISTRATION

[Disaster Declaration # 10176 and # 10177]

LOUISIANA Disaster Number LA-00002

AGENCY: Small Business Administration.

ACTION: Amendment 2.

SUMMARY: This is an amendment of the Presidential declaration of a major disaster for the State of Louisiana (FEMA-1603-DR), dated 08/29/2005.

Incident: Hurricane Katrina.

Incident Period: 08/29/2005 and continuing through 11/01/2005.

Effective Date: 11/01/2005.

Physical Loan Application Deadline Date: 01/11/2006.

EIDL Loan Application Deadline Date: 05/29/2006.

ADDRESSES: Submit completed loan applications to: U.S. Small Business Administration, National Processing And Disbursement Center, 14925 Kingsport Road, Fort Worth , TX 76155.

FOR FURTHER INFORMATION CONTACT: A. Escobar, Office of Disaster Assistance, U.S. Small Business Administration, 409 3rd Street, Suite 6050, Washington, DC 20416.

SUPPLEMENTARY INFORMATION: The notice of the President's major disaster declaration for the State of Louisiana, dated 08/29/2005, is hereby amended to establish the incident period for this disaster as beginning 08/29/2005 and continuing through 11/01/2005.

All other information in the original declaration remains unchanged.

(Catalog of Federal Domestic Assistance Numbers 59002 and 59008)

Cheri L. Cannon,
Acting Associate Administrator for Disaster Assistance.

[FR Doc. 05-22534 Filed 11-10-05; 8:45 am]

BILLING CODE 8025-01-P